SMALL BUSINESS ADMINISTRATION

Data Collection Available for Public Comments

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before April 17, 2025.

FOR FURTHER INFORMATION CONTACT: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number. You may obtain a copy of the information collection and supporting documents from the Agency Clearance Office at Curtis.Rich@sba.gov; (202) 205-7030, or from www.reginfo.gov/public/do/PRAMain.

SUPPLEMENTARY INFORMATION: SBA received funds under the American Rescue Plan Act of 2021 (ARPA), Public Law 117-2, title V, sec. 5003 (March 11, 2021), to provide direct funds to Eating and Drinking establishments that meet certain conditions. Specifically, Section 5003 of ARPA establishes the Restaurant Revitalization Fund (RRF) program to provide direct funds of up to $10 million dollars and limited to $5 million dollars per location to certain eligible persons or entities: A restaurant, food stand, food truck, food cart, caterer, saloon, inn, tavern, bar, lounge, brewpub, tasting room, taproom, licensed facility or premise of a beverage alcohol producer where the public may taste, sample, or purchase products, or other similar place of business in which the public or patrons assemble for the primary purpose of being served food or drink. Section 5003(c)(6) of ARPA requires recipients to return to the Treasury any funds that the recipient did not use for allowable expenses by the end of the covered period, or if the recipient permanently ceased operations, not later than April 30, 2023. SBA plans to update the information collection under OMB control number 3245-0424 to extend the record retention requirements.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0424

(1) Title: Restaurant Revitalization Fund Program Post Award Report.

Description of Respondents: Recipients of RRF awards.

Form Number: SBA Form 3173.

Total Estimated Annual Responses: 101,004.

Total Estimated Annual Hour Burden: 24,240.

Curtis B. Rich,
Agency Clearance Officer.

[FR Doc. 2025-04314 Filed 3-17-25; 8:45 am]

BILLING CODE 8026-09-P